ENVIRONMENTAL PROTECTION AGENCY

[EPA-HQ-OAR-2007-0482; FRL-9284-7]

Agency Information Collection Activities; Submission to OMB for Review and Approval; Comment Request; SmartWay Transport Partnership (New Collection)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before April 21, 2011.

ADDRESSES: Submit your comments, referencing Docket ID No. EPA-HQ-OAR-2007-0482, to (1) EPA online using http://www.regulations.gov (our preferred method), by e-mail to: a-and-r-Docket@epa.gov, or by mail to: EPA Docket Center, Environmental Protection Agency, Air Docket, Mail Code 28221T, 1200 Pennsylvania Ave., NW., Washington, DC 20460, and (2) OMB by mail to Office of Information and Regulatory Affairs, Office of Management and Budget (OMB), Attention: Desk Officer for EPA, 725 17th Street, NW., Washington, DC 20503.

FOR FURTHER INFORMATION CONTACT: Denise Kearns, Office of Air and Radiation, Office of Transportation and Air Quality, Transportation and Regional Programs Division, U.S. Environmental Protection Agency, 2000 Traverwood Drive, Ann Arbor, MI 48105; telephone: 734-214-4240; Fax: 734-214-4906; e-mail: kearns.denise @epa.gov.

SUPPLEMENTARY INFORMATION: EPA has submitted the following ICR to OMB for review and approval according to the procedures prescribed in 5 CFR 1320.12. On April 28, 2009 (74 FR 19222), EPA sought comments on this ICR pursuant to 5 CFR 1320.8(d). EPA received no comments. Any additional comments on this ICR should be submitted to EPA and OMB within 30 days of this notice.

EPA has established a public docket for this ICR under Docket ID No. EPA-HQ-OAR-2007-0482, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: SmartWay Transport Partnership (New Collection).

ICR numbers: EPA ICR No. 2265.01, OMB Control No. 2060-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The EPA's Office of Air and Radiation (OAR) supports the SmartWay Transport Partnership, an energy conservation deployment program that aims to improve fuel efficiency and curb greenhouse gas emissions generated by the freight goods movement industry. OAR developed the SmartWay Transport Partnership under directives outlined in Subtitle D of the Energy Policy Act of 2005 which calls on EPA to assess the energy and air quality impacts of activities within the freight industry. These activities include long-duration truck idling, the development and promotion of strategies for reducing idling, fuel consumption, and negative air quality effects. SmartWay's objectives also are consistent with the Federal Technology Transfer Act and other laws that support collaborative partnerships between government and industry.

The partnership is open to organizations that either use or provide freight transport services for goods movement. “Affiliate” organizations that do not operate freight transport fleets, but that are working to strengthen the freight industry, such as industry trade associations, state and local transportation agencies and environmental groups, also may sign on as SmartWay partners.

All organizations that join SmartWay, including carriers, shippers and affiliates are asked to provide EPA with information.

Specifically, as a first step toward partnering with EPA, organizations that operate fleets, such as freight carriers, shippers and logistics management companies, commit to assessing and improving the environmental performance of their freight transport activities. A company joins SmartWay when it: (1) Conducts an assessment of its transportation and freight-based management activities and inputs its results into SmartWay's online environmental measurement tracking system; and (2) provides a signed partnership agreement to EPA. Data outputs from the environmental tracking system are used by companies to establish a baseline and set goals for reducing fuel use and emissions. Under their partnership agreement, companies also agree to annually update the environmental performance tracking system and provide those updated results to EPA.

Data outputs from the environmental tracking system are vital to the SmartWay Partnership for several reasons. First, the data provides confirmation that EPA's SmartWay partners have set a baseline, established objectives and are meeting those objectives as outlined in their partnership agreement. The environmental measurement tracking system also makes it possible for EPA to assist our partners in adjusting their commitments, as appropriate, and to update them with environmental performance and technology information that will empower them to improve their efficiency and achieve their environmental goals. This information also improves EPA's knowledge and understanding of the environmental and energy impacts associated with goods movement, and the effectiveness of both proven and emerging strategies to lessen those impacts.

In addition to requesting tracking updates on fuel consumption and environmental performance, EPA may from time to time provide opportunities to encourage SmartWay partners to provide other kinds of information, to improve the program's services. These opportunities may be made available to all SmartWay partners, including affiliates. Some examples of the kinds of information and topics that partners might provide input to EPA on could include opinions and test data on the effectiveness of new and emerging technology applications; the reach and value of partnering with EPA through the SmartWay program; and awareness of the SmartWay brand. In some instances, EPA might also query other freight industry representatives (not just SmartWay partners), including trade and professional associations, nonprofit environmental groups, energy, and community organizations, and schools and universities, and a small sampling of the general public on these topics.

Burden Statement: The annual public reporting and recordkeeping burden for this collection of information is estimated to average 3 hours per response. Burden means the total time, effort, and financial resources expended by persons to generate, maintain, retain, disclose and provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Transportation carriers; retail and industrial shippers that contract with transportation carriers; logistics and supply chain management companies; and non-profit and other affiliates organizations.

Estimated Number of Respondents: 3,225.

Frequency of Response: Annually.

Estimated Total Annual Hour Burden: 8,301.

Estimated Total Annual Cost: $531,089, which includes $1,350 annualized capital or O&M costs.

Dated: March 16, 2011.
John Moses,
Director, Collection Strategies Division.

[FR Doc. 2011-6687 Filed 3-21-11; 8:45 am]

BILLING CODE 6560-50-P